RAILROAD RETIREMENT BOARD

Privacy Act of 1974; Proposed Changes to System of Records

AGENCY: Railroad Retirement Board (RRB).

ACTION: Notice of revision of Privacy Act System of Records.

SUMMARY: The purpose of this document is to give notice of two proposed new routine uses for one of its system of records.

DATES: The changes to this System of Records shall become effective without further notice December 22, 2003, unless comments are received before this date that result in further modifications.

ADDRESSES: Send comments to Beatrice Ezerski, Secretary to the Board, Railroad Retirement Board, 844 N. Rush St., Chicago, Illinois 60611-2092.

FOR FURTHER INFORMATION CONTACT: Patricia A. Marshall, Counsel to the Inspector General, Office of Inspector General, Railroad Retirement Board, 844 N. Rush St., 4th Floor, Chicago, Illinois 60611-2092, (312) 751-4690.

SUPPLEMENTARY INFORMATION: The RRB proposes two new routine uses for its Investigation Files System of Records, RRB-43.

I. Discussion of New and Revised Routine Uses

The first proposed routine use “e” in RRB-43 would permit the RRB to disclose information, upon request, to the President's Counsel on Integrity and Efficiency (PCIE) for the purpose of accurate reporting to the President and Congress on the activities of the Inspectors General. The purpose of the disclosure of information is to allow the PCIE to conduct the necessary analysis of data from all Inspector General offices to develop accurate statistical information for the annual report. In general, only portions of personally identifiable information may be disclosed. Additionally personally identifiable information may be disclosed as necessary to reconcile reports.

The second proposed routine use “f” in RRB-43 would allow the disclosure of information to members of the PCIE or the Department of Justice, as necessary, for the purpose of investigative qualitative assessment reviews. The PCIE has established a peer review process to ensure that Offices of Inspectors General have adequate internal safeguards and management procedures. The objectives of the review are to assess whether adequate internal safeguards and management procedures are in place, foster high-quality investigations and investigative processes, ensure that the highest levels of professionalism are maintained, and promote consistency in investigative standards and practices within the Inspector General investigative community. The Inspectors Generals plan to begin investigative qualitative assessment reviews beginning during fiscal year 2004.

II. Compatibility of Proposed Routine Uses

We are proposing these two new routine uses in accordance with the Privacy Act (5 U.S.C. 552a(b)(3)). The Privacy Act permits the disclosure of information about individuals without their consent for a routine use where the information will be used for a purpose which is compatible with the purpose for which the information was originally collected. The Office of Management and Budget had offered guidance that a “compatible” use is a use which is necessary and proper. The RRB considers the disclosure of investigatory records for the purpose of accurate reporting to the President and Congress on the activities of the Inspectors General to be a necessary and proper use; likewise the RRB considers the disclosure of these records to members of the PCIE or the Department of Justice, as necessary, for the purpose of investigative qualitative assessment reviews to be a necessary and proper use.

III. Altered System Report

On October 28, 2003, the Railroad Retirement Board filed an altered system report for this system with the chairmen of the designated Senate and House committees and with the Office of Management and Budget. This was done to comply with section 3 of the Privacy Act of 1974 and OMB Circular 1-130, Appendix I.

By authority of the Board.
Beatrice Ezerski,
Secretary to the Board.

RRB-43

SYSTEM NAME:

Investigation Files—RRB.

* * * * *

ROUTINE USES OF RECORDS MAINTAINED IN THE SYSTEM, INCLUDING CATEGORIES OF USERS AND THE PURPOSES OF SUCH USES:

Paragraph “e” is added to read as follows:

e. Records may be disclosed to members of the President's Council on Integrity and Efficiency for the preparation of reports to the President and Congress on the activities of the Inspectors General.

Paragraph “f” is added to read as follows:

f. Records may be disclosed to members of the President's Council on Integrity and Efficiency, or the Department of Justice, as necessary, for the purpose of conducting qualitative assessment reviews of the investigative operations of RRB-OIG to ensure that adequate internal safeguards and management procedures are maintained.

[FR Doc. 03-28226 Filed 11-10-03; 8:45 am]

BILLING CODE 7905-01-M